DEPARTMENT OF VETERANS AFFAIRS

National Research Advisory Council, Amended; Notice of Meeting

The Department of Veterans Affairs (VA) gives notice under the Federal Advisory Committee Act, that the National Research Advisory Council will hold a meeting on Wednesday, June 3, 2020, by teleconference. The teleconference number is 1-800-767-1750, Participant Code #26528. The meeting will convene at 11:00 a.m. and end at 1:00 p.m. This meeting is open to the public.

The purpose of the National Research Advisory Council is to advise the Secretary on research conducted by the Veterans Health Administration, including policies and programs targeting the high priority of Veterans' health care needs.

On June 3, 2020, the agenda will include a discussion regarding research VA is conducting regarding COVID-19 and mental health issues related to COVID-19. Also, the Committee will explore potential recommendations to be included in the next annual report. No time will be allocated at this meeting for receiving oral presentations from the public. Members of the public wanting to attend, have questions or presentations to present may contact Dr. Marisue Cody, Designated Federal Officer, Office of Research and Development (10X2), Department of Veterans Affairs, 810 Vermont Avenue NW, Washington, DC 20420, at (202) 443-5681, or by email at Marisue.Cody@va.gov no later than close of business on May 27, 2020. All questions and presentations will be presented during the public comment section of the meeting. Any member of the public seeking additional information should contact Dr. Cody at the above phone number or email address noted above.

Dated: May 12, 2020.
LaTonya L. Small,
Federal Advisory Committee Management Officer.

[FR Doc. 2020-10522 Filed 5-15-20; 8:45 am]

BILLING CODE P